ENVIRONMENTAL PROTECTION AGENCY

[FRL-8461-8]

Meetings of the Local Government Advisory Committee (LGAC) and the Small Community Advisory Subcommittee (SCAS)

AGENCY: Environmental Protection Agency (EPA).

ACTION: Notice.

SUMMARY: The Local Government Advisory Committee (LGAC) and the Small Community Advisory Subcommittee (SCAS) will meet in conjunction with the Environmental Council of States (ECOS) in Sun Valley, Idaho on September 18-19, 2007, at the Sun Valley Resort located at 1 Sun Valley Road, Room Limelight Salon A.

Local Government Advisory Committee will meet on the following dates:

Tuesday, September 18, 2007 1:30-5:30 p.m. Mountain Time (MDT).

Wednesday, September 19, 2007 8:30 a.m.-5 p.m. Mountain Time (MDT).

Small Community Advisory Subcommittee will meet on the following dates:

Tuesday, September 18, 2007 10:30-12:30 p.m. Mountain Time (MDT).

Background

There are estimated to be over 26,000 small town governments (with populations less than 10,000) in this country that address and are challenged by complex environmental management issues such as aging wastewater treatment plants, drinking water systems, incinerators, storm water systems, and landfills. Small communities handle solid waste, medical waste, liquid waste and hazardous waste and are often burdened with the staggering costs of meeting compliance and addressing new regulations. This meeting will focus on these many complex and diverse environmental management issues faced by small communities. A field trip will provide an onsite investigation of the varied environmental issues that impact small communities. Additionally, the purpose of the meeting is to improve and enhance our understanding of these needs and build the partnerships at the federal, state, and local level to address the needs of small communities.

Additional information may be obtained by emailing the Designated Federal Officer (DFO) for the Local Government Advisory Committee at Eargle.Frances@epa.gov, or Raymond.Anna@epa.gov for the Small Community Advisory Subcommittee (SCAS), or in written correspondence to: 1200 Pennsylvania Avenue, NW., (1301A), Washington, DC 20460. This is an open meeting and all interested persons are invited to attend. There will be a public comment period on Tuesday, September 18, 2007 at 2 p.m. (MDT). For further information contact: Frances Eargle, DFO for the Local Government Advisory Committee (LGAC) at (202) 564-3115 or Anna Raymond, DFO for the (SCAS) at (202) 564-3663.

Information on Services for the Disabled: For information on access or services for individuals with disability, please contact Frances Eargle at (202) 564-3115. To request accommodation of a disability, please contact Frances Eargle, preferably at least 10 days prior to the meeting, to give EPA as much time as possible to process your request.

Dated: August 21, 2007.
Anna Raymond,
Designated Federal Officer, Small Community Advisory Subcommittee.

[FR Doc. E7-17107 Filed 8-28-07; 8:45 am]

BILLING CODE 6560-50-P